DEPARTMENT OF COMMERCE

National Institute of Standards and Technology

[Docket No.: 020724177-2177-01]

Notice of Intent To Update Infrared Spectral Library

AGENCY: National Institute of Standards and Technology, Commerce.

ACTION: Notice and request for comments.

SUMMARY: The National Institute of Standards and Technology announces its intent to add condensed phase infrared spectra to its current library of gas phase infrared spectra. The update will include approximately 10,000 spectra of diverse compounds digitized from the published spectra of the Coblentz Society. Interested parties are invited to submit comments to the address below.

DATES: Comments must be received by September 9, 2002.

ADDRESSES: Comments should be sent to the attention of Dr. Stephen Stein at the National Institute of Standards and Technology, Mail Stop 8380, 100 Bureau Drive, Gaithersburg, MD 20899-8380.

FOR FURTHER INFORMATION CONTACT: Dr. Stephen Stein by writing to the above address or by e-mail at stephen.stein@nist.gov or by telephone at (301) 975-2444.

SUPPLEMENTARY INFORMATION: As part of its responsibilities under Title 15 U.S.C. 290 to collect, evaluate and publish high quality Standard Reference Data (SRD), NIST creates and maintains evaluated SRD databases. NIST currently distributes a gas phase infrared library containing spectra for approximately 6,000 discrete chemical substances. The database is primarily used to aid in the application of infrared spectroscopy to chemical analysis and to assist in identification of chemical compounds by providing a source for reference spectra for comparison to spectra acquired by instruments. For each spectrum, auxiliary information for chemical identification is provided, including chemical names, formulas, chemical structures and related information. The planned update will add approximately 10,000 spectra for compounds primarily in the condensed phase which have been digitized (vectorized) from existing hard copy versions of the spectra. They will also contain the auxiliary information described above. These spectra, which have been published by the Coblentz Society, have been highly evaluated and have long been widely available in reference books. The new spectra add coverage of compounds in the condensed phase to current NIST collections and also enable the use of this spectral information by digital data systems. We invite comments concerning this update.

Dated: August 1, 2002.
Karen H. Brown,
Deputy Director.

[FR Doc. 02-20101 Filed 8-7-02; 8:45 am]

BILLING CODE 3510-13-P